SURFACE TRANSPORTATION BOARD

[Docket No. FD 35874]

Lone Star Railroad, Inc. and Southern Switching Company—Track Construction and Operation Exemption—in Howard County, Texas

AGENCY: Surface Transportation Board.

ACTION: Notice of construction and operation exemption.

SUMMARY: The Board is granting an exemption under 49 U.S.C. 10502 from the prior approval requirements of 49 U.S.C. 10901 for Lone Star Railroad, Inc., to construct and operate a new line of railroad in Howard County, Tex. The Line would be used to provide rail service to an industrial park near Big Spring, Tex., via a connection with an existing Union Pacific Railroad Company mainline that extends between Dallas and El Paso, Tex. This exemption is subject to environmental mitigation conditions.

The Board, however, is denying, without prejudice, the petition for exemption with respect to Southern Switching Company's proposed operation of the newly constructed line because the record does not support the authority requested.

DATES: The exemption with respect to the proposed construction by Lone Star Railroad, Inc., will be effective on April 2, 2016; petitions to reconsider or reopen must be filed by March 23, 2016.

ADDRESSES: An original and 10 copies of all pleadings, referring to Docket No. FD 35874 must be filed with the Surface Transportation Board, 395 E Street SW., Washington, DC 20423-0001. In addition, one copy of each filing in this proceeding must be served on petitioners' representative: Thomas F. McFarland, P.C., 208 South LaSalle Street, Suite 1890, Chicago, IL 60604-1112.

FOR FURTHER INFORMATION CONTACT: Allison Davis at (202) 245-0378. Assistance for the hearing impaired is available through the Federal Information Relay Service (FIRS) at (800) 877-8339. Copies of written filings will be available for viewing and self-copying at the Board's Public Docket Room, Room 131, and will be posted to the Board's Web site.

SUPPLEMENTARY INFORMATION: Additional information is contained in the Board's decision. Board decisions and notices are available on our Web site at WWW.STB.DOT.GOV.

By the Board, Chairman Elliott, Vice Chairman Miller, and Commissioner Begeman.
Jeffrey Herzig,
Clearance Clerk.

[FR Doc. 2016-04668 Filed 3-2-16; 8:45 am]

BILLING CODE 4915-01-P